OFFICE OF THE UNITED STATES TRADE REPRESENTATIVE

Procurement Thresholds for Implementation of the Trade Agreements Act of 1979

AGENCY: Office of the United States Trade Representative.

ACTION: Determination of procurement thresholds under the WTO Government Procurement Agreement and Chapter 10 of the North American Free Trade Agreement.

EFFECTIVE DATE: January 1, 2004.

FOR FURTHER INFORMATION CONTACT: Jean Heilman Grier, Senior Procurement Negotiator, Office of the United States Trade Representative, (202) 395-9476.

SUMMARY: Executive Order 12260 requires the United States Trade Representative to set the U.S. dollar thresholds for application of Title III of the Trade Agreements Act of 1979, as amended (19 U.S.C. 2511 et seq.), which implements U.S. trade agreement obligations, including those under the World Trade Organization (WTO) Government Procurement Agreement and Chapter 10 of the North American Free Trade Agreement (NAFTA). These obligations apply to covered procurements valued at or above specified U.S. dollar thresholds.

Now, therefore, I, Robert B. Zoellick, United States Trade Representative, in conformity with the provisions of Executive Order 12260, and in order to carry out U.S. trade agreement obligations under the WTO Government Procurement Agreement and Chapter 10 of NAFTA, do hereby determine, effective on January 1, 2004:

For the calendar years 2004-2005, the thresholds are as follows:

I. WTO Government Procurement Agreement

A. Central Government Entities listed in U.S. Annex 1:

(1) Procurement of goods and services—$175,000; and

(2) Procurement of construction services—$6,725,000.

B. Sub-Central Government Entities listed in U.S. Annex 2:

(1) Procurement of goods and services—$477,000; and

(2) Procurement of construction services—$6,725,000.

C. Other Entities listed in U.S. Annex 3:

(1) Procurement of goods and services—$538,000; and

(2) Procurement of construction services—$6,725,000.

II. Chapter 10 of the NAFTA

A. Federal Government Entities listed in the U.S. Schedule to Annex 1001.1a-1:

(1) Procurement of goods and services—$58,550; and

(2) Procurement of construction services—$7,611,532.

B. Government Enterprises listed in the U.S. Schedule to Annex 1001.1a-2:

(1) Procurement of goods and services—$292,751; and

(2) Procurement of construction services—$9,368,478.

Dated: December 16, 2003.
Robert B. Zoelick,
United States Trade Representative.

[FR Doc. 03-31373 Filed 12-18-03; 8:45 am]

BILLING CODE 3190-W3-M